COMMITTEE FOR PURCHASE FROM PEOPLE WHO ARE BLIND OR SEVERELY DISABLED

Procurement List Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 12/15/2011.

ADDRESSES: Committee for Purchase From People Who Are Blind or Severely Disabled, Jefferson Plaza 2, Suite 10800, 1421 Jefferson Davis Highway, Arlington, Virginia 22202-3259.

FOR FURTHER INFORMATION CONTACT: Patricia Briscoe, Telephone: (703) 603-7740, Fax: (703) 603-0655, or email CMTEFedReg@AbilityOne.gov.

SUPPLEMENTARY INFORMATION:

Additions

On 3/25/2011 (76 FR 16733-16734); 8/26/2011 (76 FR 53419-53420); 9/2/2011 (76 FR54741-54742); 9/9/2011 (76 FR 55883); and 9/16/2011 (76 FR 57719-57720), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Nonrechargeable Battery

NSN: 6135-01-446-8310—Alkaline, D, 1.5V.

NSN: 6135-01-486-1443—Alkaline, 6V.

NSN: 6135-01-275-1363—Alkaline, 6V.

NSN: 6135-00-904-6780—Button, Silver Oxide, 1.55V.

NSN: 6135-00-993-6823—Button, Silver Oxide, 1.55V.

NSN: 6135-01-538-0997—Button, Lithium, 3V.

NSN: 6135-01-452-8160—Button, Lithium, 3V.

NSN: 6135-01-301-8776—Lithium, AA, 3.6V.

NSN: 6135-01-246-0307—Button, Silver Oxide, 1.55V.

NSN: 6135-01-246-0308—Button, Silver Oxide, 1.55V.

NSN: 6135-01-219-8612—Button, Zinc-Air. 1.4V.

NSN: 6135-01-096-0330—Button, Silver Oxide, 1.55V.

NPA: Eastern Carolina Vocational Center, Inc., Greenville, NC.

Contracting Activity: Defense Logistics Agency Land and Maritime, Columbus, OH.

Coverage: C-List for 100% of the requirement of the Department of Defense, as aggregated by the Defense Logistics Agency Land and Maritime, Columbus, OH.

NSN: 7930-00-NIB-0583—Refills, Bathroom Cleaner and Deodorizer, Cartridge Concentrate.

NSN: 7930-00-NIB-0584—Starter Kit, Bathroom Cleaner and Deodorizer, Cartridge Concentrate.

NSN: 7930-00-NIB-0585—Refills, Glass and Hard Surface Cleaner, Cartridge Concentrate.

NSN: 7930-00-NIB-0586—Starter Kit, Glass and Hard Surface Cleaner, Cartridge Concentrate.

NSN: 7930-00-NIB-0591—Refills, Disinfectant Cleaner-Degreaser Cartridge Concentrate.

NSN: 7930-00-NIB-0592—Starter Kit, Disinfectant Cleaner-Degreaser Cartridge Concentrate.

NSN: 7930-00-NIB-0593—Refills, Multi-Purpose Cleaner, Cartridge Concentrate.

NSN: 7930-00-NIB-0594—Starter Kit, Multi-Purpose Cleaner, Cartridge Concentrate.

NPA: Association for Vision Rehabilitation and Employment, Inc., Binghamton, NY.

Contracting Activity: General Services Administration, Fort Worth, TX.

Coverage: A-List for the Total Government Requirement as aggregated by the General Services Administration.

Services

Service Type/Locations: Document Destruction Service.

NPA: NISH (Prime Contractor).

Contracting Activity: Dept of the Treasury/Internal Revenue Service, Washington, DC.

I.R.S. Offices located at the following addresses:

2403 Folsom Street, Eau Claire, WI

425 State Street, La Crosse, WI

NPA (Subcontractor): AccessAbility, Inc., Minneapolis, MN

Fletc Building 67, Glynco, GA

1131 Chapel Crossing Road, Bldg 67, Brunswick, GA

NPA (Subcontractor): Austin Task, Inc., Austin, TX

53 North Sixth Street, New Bedford, MA

75 Perseverance Way, Hyannis, MA

One Montvale Ave., Stoneham, MA

NPA (Subcontractor): CranstonArc, Cranston, RI

1550 Main Street, Springfield, MA

NPA (Subcontractor): Easter Seals Capital Region & Eastern Connecticut, Inc., Windsor, CT

4309 Jacksboro Highway, Wichita Falls, TX

Third & Pine Streets, Abilene, TX

8404 Esters Blvd, Irving, TX

NPA (Subcontractor): Expanco, Inc., Fort Worth, TX

14479 S. John Humphrey Drive, Orland Park, IL

NPA (Subcontractor): Glenkirk, Northbrook, IL

2426 Lee Hwy-Preston Sq, Bristol, VA

NPA (Subcontractor): Goodwill Industries—Knoxville, Inc., Knoxville, TN

10208 Park Plaza, Suite C, Rothschild, WI

NPA (Subcontractor): Goodwill Industries of Southeastern Wisconsin, Inc., Milwaukee, WI

1810 Hale Ave, Harlingen, TX

NPA (Subcontractor): Goodwill Industries of South Texas, Inc., Corpus Christi, TX

1099 Alakea Street, Honolulu, HI

NPA (Subcontractor): Goodwill Contract Services of Hawaii, Inc., Honolulu, HI

210 Walnut Street, Des Moines, IA

4300 Westown Parkway, West Des Moines, IA

425 Second Street, SE., Cedar Rapids, IA

NPA (Subcontractor): Harrison County Sheltered Workshop Association, Bethany, MO

7657 Levin Road, Suite L-20, Silverdale, WA

NPA (Subcontractor): Northwest Center, Seattle, WA

1004 North Big Spring, Midland, TX

NPA (Subcontractor): ReadyOne Industries, Inc., El Paso, TX

100 Dey Place, Edison, NJ

165 Passaic Avenue, Fairfield, NJ

4 Paragon Way, STE #2, Freehold, NJ

111 Wood Ave, South, Iselin, NJ

30 Montgomery Street, Jersey City, NJ

200 Sheffield Street, Mountainside, NJ

20 Washington Place, Newark, NJ

1 Newark Center, Newark, NJ

1 Kalisa Way, Paramus, NJ

1719 C Route 10, Parsippany, NJ

200 Federal Plaza, Paterson, NJ

955 Springfield Ave, Springfield, NJ

107 Charles Lindbergh Blv, Garden City, NY

1180 Vets Mem Hwy, Hauppauge, NY

50 Clinton St., Hempstead, NY

290 BWY—Foley Square, New York, NY

2283 Third Avenue, New York, NY

33 Maiden Lane, New York, NY

1200 Waters Place, New York—Bronx, NY

1 Lefrak City Plaza, New York—Queens, NY

445 Forrest Ave., New York—Richmond, NY

10 Richmond Terrace, New York—Richmond, NY

10 Metrotech Center, New York—Kings, NY

518A East Main Street, Riverhead, NY

240 W Nyack Road/250, West Nyack, NY

1600 Stewart Ave., Westbury, NY

210 East Post Road, White Plains, NY

NPA (Subcontractor): NYSARC, Inc., NYC Chapter, New York, NY

300 Pearl Street, Buffalo, NY

130 South Elmwood Avenue, Buffalo, NY

Appletree Business Park, Cheektowaga, NY

201 Como Park Blvd., Cheektowaga, NY

E 3RD & Pendergast, Jamestown, NY

250 Corp. PL-255 East Ave, Rochester, NY

100 South Clinton Street, Syracuse, NY

615 Erie Blvd. West, Syracuse, NY

10 Broad Street, Rm 130, Utica, NY

1314 Griswald Plaza, Erie, PA

7th & State Street, Erie, PA

NPA (Subcontractor): Lifetime Assistance, Inc., Rochester, NY

57 Haddonfield Road, Cherry Hill, NJ

5218 Atlantic Avenue, Mays Landing, NJ

44 South Clinton Ave., 3rd Fl, Trenton, NJ

3 W. Broad Street, Bethlehem, PA

200 Lakeside Drive, Suite 220, Horsham, PA

601 S. Henderson Road, King of Prussia, PA

1720 Hempstead Rd Bldg 144, Lancaster, PA

1400 North Providence Rd, Media, PA

600 Arch Street, Philadelphia, PA

701 Market Street, Philadelphia, PA

1601 Market Street, Philadelphia, PA

11620 Caroline Road, Philadelphia, PA

9815 B Roosevelt Blvd., Philadelphia, PA

201 Penn Street, Reading, PA

2801 Eastern Blvd, York, PA

2970 Market Street, Philadelphia, PA

NPA (Subcontractor): Opportunity Center, Incorporated, Wilmington, DE

1250 Edwin Miller Blvd., Martinsburg, WV

150 Court St, Charleston, WV

420 Riffe ST., Sophia, WV

1206 Quarrier St, Charleston, WV

845 Fifth Avenue, Huntington, WV

55 Meridian Parkway, Martinsburg, WV

1021 National Road, Wheeling, WV

NPA (Subcontractor): PACE Enterprises of West Virginia, Inc., Star City, WV

210 1st Street, SW., Roanoke, VA

1600 N. Coalter Street, Staunton, VA

NPA (Subcontractor): Southside Training Employment Placement Services, Inc., Farmville, VA

Service Type/Location: Grounds & Cemetery Facilities Maintenance

Fort McClellan Veterans Cemetery and Prisoner of War Cemetery Anniston, AL.

NPA: The Opportunity Center Easter Seal Facility—The Ala ES Soc, Inc., Anniston, AL

Contracting Activity: Dept of the Army, W0LX Anniston Depot Prop Div, Anniston, AL

Service Type/Locations: Rubbish Removal and Recycling Service

Department of the Treasury, Internal Revenue Service, Chicago, IL

I.R.S. Offices at the following locations:

Submission Processing Center & Tax Break Café, 3651 S. IH-35, Austin, TX

Connection Warehouse, 2021 East Woodward, Austin, TX

Southpark G (CSB), 1821 Directors Blvd., Austin, TX

Southpark J, 2191 Woodward, Austin, TX

Southpark K, 4175 Freidrich Lane, Austin, TX

South Tech. Bldg. 4, 2101 East Saint Elmo Road, Austin, TX

Child Development Center, 3651 South IH-35, Austin, TX

JJ Pickle Federal Building, 300 E. 8th St., Austin, TX

Research Park, 2301 Research Blvd., Bldg. 4, Austin, TX

Rundberg Building, 825 E. Rundberg Lane, Austin, TX

Southpark Office Center (SPOC), 5015 S. IH-35, Austin, TX

NPA: Austin Task, Inc., Austin, TX.

Contracting Activity: Dept of Treasury, Internal Revenue Service, Chicago, IL.

Service Types/Location: Janitorial Service, Grounds Maintenance, William Jefferson Clinton Birthplace Home National Historic Site (NHS) 117 S. Hervey St., Hope, AR.

NPA: Rainbow of Challenges, Inc., Hope, AR.

Contracting Activity: Department of the Interior, National Park Service, Midwest Region, Omaha, NE

Service Type/Locations: Mail Management Support Service, FISCN SMD NDW Postal Division Code 415.74, 2822 Doherty Drive, SW., Ste 1000, Joint Base Anacostia Bolling, DC.

NPAs: NewView Oklahoma, Inc., Oklahoma City, OK (Prime Contractor); ServiceSource, Inc., Alexandria, VA (Subcontractor); Regional Navy Mail Center, Fleet & Industrial Supply Center, 9225 Third Avenue, Norfolk, VA; Navy Mail Center Naval Air Station, 1155 Rosenbaum Ave, Meridian, MS

NPA: NewView Oklahoma, Inc., Oklahoma City, OK (Prime Contractor) Contracting Activity: Dept of the Navy, FISC Norfolk, Norfolk, VA

Patricia Briscoe,
Deputy Director, Business Operations (Pricing and Information Management).

[FR Doc. 2011-29289 Filed 11-10-11; 8:45 am]

BILLING CODE 6353-01-P